DEPARTMENT OF COMMERCE

Foreign-Trade Zones Board

[Order No. 1250]

Grant of Authority for Subzone Status; Brittany Dyeing and Printing Corporation (Inc.) (Textile Finishing), New Bedford, MA

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones (the Board) to grant to qualified corporations the privilege of establishing foreign-trade zones in or adjacent to U.S. Customs ports of entry.

Whereas, the Board's regulations (15 CFR part 400) provide for the establishment of special-purpose subzones when existing zone facilities cannot serve the the specific use involved, and when the activity results in a significant public benefit and is in the public interest;

Whereas, the City of New Bedford, Massachusetts, grantee of Foreign-Trade Zone 28, has made application for authority to establish special-purpose subzones status at the textile finishing plant of Brittany Dyeing and Printing Corporation (Inc.), located in New Bedford, Massachusetts (FTZ Docket 12-2002, filed February 7, 2002).

Whereas, notice inviting the public comment was given in the Federal Register (67 FR 7131, February 15, 2002); and,

Whereas, the application seeks FTZ authority for only the following processes: Dyeing, printing, shrinking, sanferizing, desizing, sponging, bleaching, cleaning/laundering, calendaring, hydroxilating, decatizing, fulling, mercerizing, chintzing, moiring, framing/beaming, stiffening, weighting, crushing, tubing, thermofixing, anti-microbial finishing, shower proofing, flame retardation, and embossing; and,

Whereas, the Board adopts the findings and recommendations of the examiner's report, and finds that the requirements of the FTZ Act and Board's regulations would be satisfied, and that approval of the application would be in the public interest if approval were subject to the restriction listed below;

Now, therefore, the Board hereby grants authority for subzone status at the textile finishing plant of Brittany Dyeing and Printing Corporation (Inc.), located in New Bedford, Massachusetts (Subzone 28E), at the location described in the application, subject to the FTZ Act and the Board's regulations, including § 400.28, and further subject to the following restrictions:

1. Privileged foreign status (19 CFR 146.41) shall be elected on all foreign status fabric admitted to the subzone;

2. No activity under FTZ procedures shall be permitted and that would result in a change in textile quota category or country of origin, and/or alter applicable U.S. quota/visa requirements; and,

3. All FTZ activity shall be subject to § 146.63(d) of the U.S. Customs Service regulations (19 CFR part 146).

Signed at Washington, DC, this 30th day of September 2002.
Faryar Shirzad,
Assistant Secretary of Commerce for Import Administration Alternate Chairman, Foreign-Trade Zones Board.

[FR Doc. 02-25629 Filed 10-7-02; 8:45 am]

BILLING CODE 3510-05-M